DEPARTMENT OF HOMELAND SECURITY

National Protection and Programs Directorate, National Communications System Agency Information Collection Activities: Notice of Intent To Request Approval From the Office of Management and Budget (OMB); Shared Resources High Frequency Radio Station Data Form

AGENCY: Department of Homeland Security, National Protection and Programs Directorate, National Communications System.

ACTION: Notice.

SUMMARY: The Department of Homeland Security (DHS) invites comments from the general public and other federal agencies on an information collection requirement that will be submitted to OMB as required by the Paperwork Reduction Act of 1995, (Pub. L. 104-13, 44 U.S.C. chapter 35) as amended by the Clinger-Cohen Act (Pub. L. 104-106).

DATES: Written comments should be received on or before September 21, 2007 to be assured consideration.

ADDRESSES: Office of the Manager, NCS, Attn: Larry Hazzard, 701 South Courthouse Road, Arlington VA 22204 or e-mail larry.hazzard@hq.dhs.gov.

FOR FURTHER INFORMATION CONTACT: Office of the Manager, NCS, Attn: Larry Hazzard, 701 South Courthouse Road, Arlington VA 22204, e-mail, larry.hazzard@hq.dhs.gov, or telephone, 703-607-4865 (this is not a toll free number).

SUPPLEMENTARY INFORMATION: Direct all written comments to the Department of Homeland Security at the above address. A copy of this Information Collection Request, with applicable supporting documentation, may be obtained by calling the contact listed above. The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: National Protection and Programs Directorate, National Communications System.

Title: Shared Resources High Frequency Radio Program (SHARES) Station Data Form.

OMB No.: 1670—New.

Frequency: 1,430 times per year.

Affected Public: Private Citizens.

Estimated Number of Respondents: 1,430 responses per year.

Estimated Time Per Respondent: 15 minutes per response.

Total Burden Hours: 2,860 hours.

Total Burden Cost: (capital/startup): None.

Total Burden Cost: (operating/maintaining): None.

Description: The purpose of the SHARES program is to provide a single, interagency emergency message handling system by bringing together existing High Frequency (HF) radio resources of Federal, state and private organizations when normal communications are destroyed or unavailable for the transmission of national security and emergency preparedness information. SHARES is available on a 24-hour basis to provide an emergency communications link to support intra- or interagency mission requirements. Potential HR radio resources exist in every state and overseas. Radio Operators or other radio operating entities may request to be a part of the SHARES program by submitting appropriate information to DHS on a SHARES Station Data Form. The form will also be used when a station requests to be removed from the program and when providing updated station information. The form will contain information such as station address, station telephone numbers, call signs, address codes, frequencies, technical station capabilities, hours of operation, and point of contact information. SHARES implements Executive Order No. 12472, “Assignment of National Security and Emergency Preparedness Telecommunications Functions,” dated April 3, 1984 (amended by Executive Order 13286, dated February 28, 2003).

Dated: July 17, 2007.
Fawn Pettigrew,
Director of Operations, National Protection and Programs Directorate, Department of Homeland Security.

[FR Doc. E7-14144 Filed 7-20-07; 8:45 am]

BILLING CODE 4010-10-P